DEPARTMENT OF AGRICULTURE

Submission for OMB Review; Comment Request

August 10, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of the Assistant Secretary for Civil Rights

Title: USDA/1994 Tribal Scholars Program.

OMB Control Number: 0503-0016.

Summary of Collection: The USDA/1994 Tribal Scholars Program, within the Office of the Assistant Secretary for Civil Rights, Office of Outreach and Diversity, is an annual joint human capital initiative between USDA and the Nation's thirty-two 1994 Land-Grant Tribal Colleges and Universities (1994 TCUs). The purpose of the USDA/1994 Tribal Scholars Program is to: (1) Strengthen the long-term partnership between USDA and the 1994 Land-Grant Tribal Colleges and Universities Institutions; (2) Increase the number of students studying agriculture, food, natural resources sciences, or other related disciplines; and (3) Offer career opportunities to USDA/1994 Tribal Scholars at the U.S. Department of Agriculture. Tribal Scholars are required to study in the food and agricultural and related sciences, so defined by the National Agricultural Research, Extension, and Teaching Policy Act of 1977 (U.S.C. 3103 (8)).

Need and Use of the Information: This program offers a combination of work experience and academic study leading to career positions within USDA through a Student Career Experience Program designed to integrate classroom study with paid work experience. Without the information, USDA would be unable to award scholarships to students.

Description of Respondents: Individuals or households.

Number of Respondents: 1,440.

Frequency of Responses: Reporting: Annually.

Total Burden Hours: 4,320.

Ruth Brown,
Departmental Information Collection Clearance Officer.

[FR Doc. E9-19428 Filed 8-12-09; 8:45 am]

BILLING CODE 3410-11-P